DEPARTMENT OF COMMERCE

National Oceanic and Atmospheric Administration

[I.D. 040703F]

Caribbean Fishery Management Council; Public Meetings

AGENCY: National Marine Fisheries Service (NMFS), National Oceanic and Atmospheric Administration (NOAA), Commerce.

ACTION: Notice of public meetings.

SUMMARY: The Caribbean Fishery Management Council's (CFMC) Habitat Advisory Panel (HAP), and the Scientific and Statistical Committee (SSC) will hold a meeting.

DATES: The HAP/SSC meeting will be held on April 24-25, 2003.

ADDRESSES: The meeting will be held at the Best Western Pierre Hotel, 105 De Diego Avenue, San Juan, Puerto Rico.

FOR FURTHER INFORMATION CONTACT: Caribbean Fishery Management Council, 268 Munoz Rivera Avenue, Suite 1108, San Juan, Puerto Rico 00918-1920, telephone: 787-766-5926.

SUPPLEMENTARY INFORMATION: The HAP, and the SSC will meet to discuss the items contained in the following agenda on the Draft Essential Fish Habitat/Environmental Impact Statement for the CFMC:

1. Review Methodology (Sect. 2.1)

2. Review revised Human Environment (Sect. 3.3)

3. Fishing impact alternatives

-Review list of alternatives (Sect. 2.5)

-Discuss rationale (Sect. 2.5)

- Discuss consequences (Sect. 4.5)

4. HAPC alternatives

- Review list of alternatives (Sect. 2.4)

- Discuss rationale (Sect. 2.4)

- Discuss consequences (Sect. 4.4)

5. EFH alternatives

- Review list of alternatives (Sect. 2.3)

- Discuss rationale (Sect. 2.3)

- Discuss consequences (Sect. 4.3)

6. Consequences section (Sect. 4)

- Missing information (Sect. 4.1)

- Cumulative impacts (Sect. 4.6)

7. Affected Environment (Sect. 3)

- Previously discussed - additional comments?

8. Other

The HAP/SSC will convene on Thursday, April 24, 2003, from 10 a.m. until 5 p.m., and will continue on Friday, April 25, 2003, from 9 a.m. to 4 p.m.

The meetings are open to the public, and will be conducted in English. Fishers and other interested persons are invited to attend and participate with oral or written statements regarding agenda issues.

Although nonemergency issues not contained in this agenda may come before the Committees for discussion, those issues may not be the subject of formal Committee action during these meetings. Committee action will be restricted to those issues specifically listed in this notice, and any issues arising after publication of this notice that require emergency action under section 305(c) of the Magnuson-Stevens Fishery Conservation and Management Act, provided the public has been notified of the Panel's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-1920, telephone 787-766-5926, at least 5 days prior to the meeting date.

Dated: April 7, 2003.
Theophilus R. Brainerd,
Acting Director, Office of Sustainable Fisheries, National Marine Fisheries Service.

[FR Doc. 03-8823 Filed 4-9-03; 8:45 am]

BILLING CODE 3510-22-S